DEPARTMENT OF HEALTH AND HUMAN SERVICES

Centers for Disease Control and Prevention

[30-Day-11-0775]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Formative Research to Develop Social Marketing Campaigns—Routine HIV Testing for Emergency Medicine Physicians, Prevention Is Care (PIC), and Partner Services—Extension—(0920-0775, expiration 4-30-2011) National Center for HIV/AIDS, Viral Hepatitis, STD, and TB Prevention (NCHHSTP), Centers for Disease Control and Prevention (CDC).

Background and Brief Description

This project involves continuing a formative research study to support CDC's efforts in further developing three social marketing campaigns targeting infectious disease specialists, primary care physicians, and emergency department physicians. The campaigns of focus are: Routine HIV Testing, Prevention Is Care (PIC) and Partner Services. The goal of the Routine HIV Testing Campaign is to increase HIV testing rates among individuals who receive care through the emergency department and the objective of the campaign is to make HIV testing a routine part of care provided by emergency medicine physicians. PIC entails encouraging primary care physicians (PCP) and Infectious Disease Specialists who deliver care to patients living with HIV to screen their HIV patients for HIV transmission behaviors and deliver brief messages on the importance of protecting themselves and others by reducing their risky behaviors. The long-term objective of the campaign is to establish PIC as the standard of care for persons living with HIV. The goal of the Partner Services component of the PIC social marketing campaign is to make HIV partner services a routine part of medical care. Partner services will greatly enhance the detection and early referral of individuals with HIV infection and will greatly reduce the number of new infections. The study entails conducting the remaining interviews to test creative materials with a sample of emergency medicine physicians for Routine HIV Testing and with PCP and Infectious Disease Specialists for PIC and Partner Services. Findings from this study will be used by CDC and its partners to inform current and future program activities.

For Routine HIV Testing, we have conducted a total of 48 interviews and have 24 remaining interviews to conduct. We expect a total of 12 physicians to be screened annually for eligibility. Of the 12 physicians who are screened annually, we expect that 8 will participate in an interview annually.

For PIC, we have conducted 18 interviews and have 144 remaining interviews to conduct. We expect a total of 72 physicians to be screened annually for eligibility. Of the 72 physicians who are screened, we expect that 48 will participate in an interview annually.

For Partner Services, we have conducted 96 interviews and have 78 remaining interviews to conduct. We expect a total of 39 physicians to be screened annually for eligibility. Of the 39 physicians who are screened, we expect that 26 will participate in an interview annually.

There are no costs to the respondents other than their time. The total estimated annual burden hours are 115.

Estimated Annualized Burden Hours
Type of respondent | Form name | Number of respondents | Number of responses per respondent | Average burden response (in hours)
Emergency Medicine Physicians | Routine HIV Testing Screener | 12 | 1 | 10/60
Emergency Medicine Physicians | Routine HIV Testing Interview | 8 | 1 | 1
Emergency Medicine Physicians | Routine HIV Paper & Pencil Survey | 8 | 1 | 10/60
Prevention Is Care | PIC Screener | 72 | 1 | 10/60
Prevention Is Care | PIC Interview | 48 | 1 | 1
Prevention Is Care | PIC Paper & Pencil Survey | 48 | 1 | 10/60
Partner Services | Screener | 39 | 1 | 10/60
Partner Services | Interview | 26 | 1 | 1
Partner Services | Paper & Pencil Survey | 26 | 1 | 10/60

Daniel Holcomb,
Reports Clearance Officer, Centers for Disease Control and Prevention.

[FR Doc. 2011-6936 Filed 3-23-11; 8:45 am]

BILLING CODE 4163-18-P